DEPARTMENT OF HEALTH AND HUMAN SERVICES

Administration for Children and Families

Proposed Information Collection Activity; Comment Request

Proposed Projects

Title: Evaluation of the Refugee Social Service (RSS) and Targeted Assistance Formula Grant (TAB) Programs: Data Collection.

OMB No.: New Collection.

Description: The Office of Refugee Resettlement (ORR) within the U.S. Department of Health and Human Services (HHS) funds the Refugee Social Services (RSS) and Targeted Assistance Formula Grant (TAG) programs, which are designed to help refugees achieve economic success quickly following their arrival in the U.S. through employment services, English-language instruction, vocational training, and other social services. ORR is sponsoring a project to (1) conduct a comprehensive evaluation of the effectiveness of ORR employability services through RSS and TAG, and (2) propose options for institutionalizing ongoing evaluation and performance assessment into the programs.

ORR is requesting OMB clearance for three methods of information collection: (1) Interviews with state and local refugee program administrators and service providers in three sites to learn about service delivery and organizational arrangements, and with a small number of local employers who work with RSS- and TAG-funded service providers to learn about their experiences with the programs; (2) A sample of 1,125 refugees to collect data on refugees' employment and earnings outcomes; (3) Two to three focus groups with seven to ten program clients in each of the three sites to obtain customer perspectives of the services they received and their adjustment experiences.

Respondents: (1) Interviews will be conducted with three state refugee coordinators, voluntary agency (VOLAG) and Mutual Assistance Association (MAA) staff, local RSS and TAG service providers, and employers who employ significant numbers of refugees. (2) The respondents of the survey are refugees who have been in the United States for fewer than five years, and, thus, are eligible for RSS and TAG services. The survey relies on a mixed-mode data collection method that involves both telephone and in-person interviews. If individuals cannot be reached by phone, an attempt will be made to contact them in person. Approximately 900 of the 1,125 refugees sampled will complete the survey over a nine-week period.

(3) Respondents of the focus groups will include refugees who have received RSS-and TAG-funded services. Approximately 70 refugees will participate in the focus groups.

Annual Burden Estimates
Instrument | Number of respondents | Number of responses per respondent | Average burden hours per response | Total burden hours
Interviews with program staff | 60 | 1 | 1 | 60
Interviews with employers | 12 | 1 | 2 | 24
Survey of refugees | 900 | 1 | 0.5 | 450
Focus group with program clients | 70 | 1 | 2 | 140

Estimated Total Annual Burden Hours: 674.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 16, 2005.
Robert Sargis,
Reports Clearance Officer.

[FR Doc. 05-10125 Filed 5-19-05; 8:45 am]

BILLING CODE 4184-01-M